DEPARTMENT OF TRANSPORTATION

Office of the Secretary

Aviation Proceedings, Agreements Filed During the Week Ending November 16, 2001

The following Agreements were filed with the Department of Transportation under the provisions of 49 U.S.C. sections 412 and 414. Answers may be filed within 21 days after the filing of the application.

Docket Number: OST-2001-11006.

Date Filed: November 14, 2001.

Parties: Members of the International Air Transport Association.

Subject: CSC/23/Meet/004/2001 dated 17 May 2001, Book of Finally Adopted Resolutions & RPs, Minutes—CSC/23/Meet/006/2001 dated 5 November 2001, Correction—CSC/23/Meet/005/2001 dated 10 July 2001, Intended effective date: 1 October 2001.

Docket Number: OST-2001-11008.

Date Filed: November 15, 2001.

Parties: Members of the International Air Transport Association.

Subject: PTC31 N&C/CIRC 0181 dated 13 November 2001, TC31 North and Central Pacific Areawide Expedited, Resolutions r1-r2, PTC31 N&C/CIRC 0182 dated 13 November 2001, TC3 (except Japan)-North America, Caribbean Expedited, Resolutions r3-r9, Intended effective date: 15 January 2002.

Docket Number: OST-2001-11009.

Date Filed: November 15, 2001.

Parties: Members of the International Air Transport Association.

Subject: PTC31 N&C/CIRC 0183 dated 13 November 2001, TC3-Central America, South America Expedited, Resolutions r1-r4, Intended effective dated: 15 January 2002.

Docket Number: OST-2001-11018.

Date Filed: November 16, 2001.

Parties: Members of the International Air Transport Association.

Subject: PSC/Reso/111 dated 8 November 2001, Expedited Resolutions & RPs r1-10, Intended effective date: as early as 1 December 2001.

Dorothy Y. Beard,
Federal Register Liaison.

[FR Doc. 01-29373 Filed 11-23-01; 8:45 am]

BILLING CODE 4910-62-P